DEPARTMENT OF ENERGY

Federal Energy Regulatory Commission

[Docket Nos. EL20-5-000; QF19-881-001; QF19-882-001]

Branch Street Solar Partners LLC; SSA Solar of NM 4, LLC; Notice of Petition for Declaratory Order

Take notice that on October 22, 2019, pursuant to Rule 207 of the Federal Energy Regulatory Commission's (Commission) Rules of Practice and Procedure,¹ Branch Street Solar Partners LLC and SSA Solar of NM 4, LLC (collectively Petitioners), filed a petition for a declaratory order requesting limited waiver of the filing requirements applicable to small power production facilities set forth in section 292.203(a)(3) of the Commission's regulations ² for the time‐period beginning when two qualifying small power production facilities (QF's) were placed into operation, and ending on February 25, 2019, when Petitioners filed their respective QF self‐certifications, as more fully explained in the petition.

¹ 18 CFR 385.207 (2019).

² 18 CFR 292.203(a)(3) (2019).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible online at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern time on November 21, 2019.

Dated: October 24, 2019.
Kimberly D. Bose,
Secretary.

[FR Doc. 2019-23694 Filed 10-29-19; 8:45 am]

BILLING CODE 6717-01-P